LEGAL SERVICES CORPORATION

Sunshine Act Meeting; Board of Directors

TIME AND DATE: The Legal Services Corporation (“LSC” or “Corporation”) Board of Directors (“Board”) will meet telephonically on September 19, 2011 at 11 a.m., Eastern Time.

Location: Legal Services Corporation, F. William McCalpin Conference Center, 3333 K Street, NW., Washington, DC 20007.

STATUS OF MEETING: Open.

PUBLIC OBSERVATION: Members of the public who wish to listen to the proceedings may do so by following the telephone call-in directions given below but are asked to keep their telephones muted to eliminate background noises. From time to time the Chairman may solicit comments from the public.

CALL-IN DIRECTIONS FOR OPEN SESSION(S):

• Call toll-free number: 1-(866) 451-4981;

• When prompted, enter the following numeric pass code: 5907707348;

• When connected to the call, please “Mute” your telephone immediately.

MATTERS TO BE CONSIDERED:

Board of Directors

Agenda

Open Session

1. Approval of agenda.

2. Consider and act on the recommendation of the Operations & Regulations Committee regarding specific approach and statutory language change(s) to suggest to the White House and Congress for replacement of decennial census poverty data in distributing LSC field grants.

3. Consider and act on the Finance Committee's recommendation to the Board a to LSC's appropriations request for FY 2013 (Resolution 2011-012).

—Presentation by David Richardson, LSC's Treasurer & Comptroller.

—Comments by John Constance, Director of LSC's Office of Government Relations & Public Affairs.

—Comments by Jeffrey Schanz, LSC's Inspector General.

4. Consider and act on renaming of the Board's Development Committee (Resolution 2011-013).

5. Other Business.

6. Consider and act on adjournment of meeting.

CONTACT PERSON FOR INFORMATION: Katherine Ward, Executive Assistant to the Corporate Secretary, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals that need other accommodations due to disability in order to attend the meeting in person or telephonically should contact Katherine Ward at (202) 295-1500 or FR_NOTICE_QUESTIONS@lsc.gov, at least 2 business days in advance of the meeting. If a request is made without advance notice, LSC will make every effort to accommodate the request but cannot guarantee that all requests can be fulfilled.

September 12, 2011.
Victor M. Fortuno,
Vice President & General Counsel.

[FR Doc. 2011-23734 Filed 9-13-11; 11:15 am]

BILLING CODE 7050-01-P